DEPARTMENT OF HEALTH AND HUMAN SERVICES

Centers for Medicare & Medicaid Services

Privacy Act of 1974; CMS Computer Match No. 2013-08; HHS Computer Match No. 1309

AGENCY: Centers for Medicare & Medicaid Services (CMS), Department of Health and Human Services (HHS).

ACTION: Notice of Computer Matching Program (CMP).

SUMMARY: In accordance with the requirements of the Privacy Act of 1974, as amended, this notice announces the establishment of a CMP that CMS plans to conduct with the Internal Revenue Service (IRS), a Bureau of the Department of the Treasury.

DATES: Effective Dates: Comments are invited on all portions of this notice. Public comments are due 30 days after publication. The matching program will become effective no sooner than 40 days after the report of the matching program is sent to the Office of Management and Budget (OMB) and Congress, or 30 days after publication in the Federal Register, whichever is later.

ADDRESSES: The public should send comments to: CMS Privacy Officer, Division of Privacy Policy, Privacy Policy and Compliance Group, Office of E-Health Standards & Services, Office of Enterprise Management, CMS, Room S2-24-25, 7500 Security Boulevard, Baltimore, Maryland 21244-1850. Comments received will be available for review at this location, by appointment, during regular business hours, Monday through Friday from 9:00 a.m.-3:00 p.m., Eastern Time zone.

FOR FURTHER INFORMATION CONTACT: Aaron Wesolowski, Director, Verifications Policy & Operations Branch, Division of Eligibility and Enrollment Policy and Operations, Center for Consumer Information and Insurance Oversight, CMS, 7501 Wisconsin Avenue, Bethesda, MD 20814, Office Phone: (301) 492-4416, Facsimile: (443) 380-5531, E-Mail: Aaron.Wesolowski@cms.hhs.gov.

SUPPLEMENTARY INFORMATION: The Computer Matching and Privacy Protection Act of 1988 (Public Law (Pub. L.) 100-503), amended the Privacy Act (5 U.S.C. 552a) by describing the manner in which computer matching involving Federal agencies could be performed and adding certain protections for individuals applying for and receiving Federal benefits. Section 7201 of the Omnibus Budget Reconciliation Act of 1990 (Pub. L. 101-508) further amended the Privacy Act regarding protections for such individuals. The Privacy Act, as amended, regulates the use of computer matching by Federal agencies when records in a system of records are matched with other Federal, state, or local government records. It requires Federal agencies involved in computer matching programs to:

1. Negotiate written agreements with the other agencies participating in the matching programs;

2. Obtain the Data Integrity Board approval of the match agreements;

3. Furnish detailed reports about matching programs to Congress and OMB;

4. Notify applicants and beneficiaries that the records are subject to matching; and,

5. Verify match findings before reducing, suspending, terminating, or denying an individual's benefits or payments.

This matching program meets the requirements of the Privacy Act of 1974, as amended.

Date: July 31, 2013.
Michelle Snyder,
Chief Operating Officer, Centers for Medicare & Medicaid Services.

CMS Computer Match No. 2013-08

HHS Computer Match No. 1309

NAME:

“Computer Matching Agreement between the Department of Health and Human Services, Centers for Medicare & Medicaid Services, and the Department of the Treasury, Internal Revenue Service, for the Verification of Household Income and Family Size for Insurance Affordability Programs and Exemptions”.

SECURITY CLASSIFICATION:

Unclassified.

PARTICIPATING AGENCIES:

Department of Health and Human Services (HHS), Centers for Medicare & Medicaid Services (CMS), and Department of the Treasury, Internal Revenue Service (IRS).

AUTHORITY FOR CONDUCTING MATCHING PROGRAM:

Sections 1411 and 1413 of the Patient Protection and Affordable Care Act of 2010 (Pub. L. 111-148), as amended by the Health Care and Education Reconciliation Act of 2010 (Pub. L. 111-152) (collectively, the ACA) require the Secretary of HHS to establish a program for determining eligibility for certain Insurance Affordability Programs, certifications of Exemption, and authorize use of secure, electronic interfaces and an on-line system for the verification of eligibility.

Section 1414 of the ACA amended 26 U.S.C. 6103 to add paragraph (l)(21), which authorizes the disclosure of certain items of Return Information as part of the Eligibility Determination process for enrollment in the following Insurance Affordability Programs: advance payments of the premium tax credit (APTC) under Sections 1401, 1411 and 1412 of the ACA; a Cost Sharing Reduction (CSR) under Section 1402 of the ACA; Medicaid and the Children's Health Insurance Program (CHIP), under titles XIX and XXI of the Social Security Act, pursuant to Section 1413 of the ACA; or a State's Basic Health Program (BHP), if applicable, under Section 1331 of the ACA.

PURPOSE(S) OF THE MATCHING PROGRAM:

The purpose of the Computer Matching Agreement (CMA) is to establish the terms, conditions, safeguards, and procedures governing the disclosures of Return Information by IRS to CMS and by CMS to an Administering Entity (state agencies that administer Medicaid or CHIP, and state-based Exchanges and Marketplaces) through the CMS Data Services Hub to support the verification of Household Income and Family Size for an Applicant receiving an Eligibility Determination under the ACA.

Return Information will be matched by CMS in its capacity as the Federally-facilitated Exchange (Federally-facilitated Marketplace) or by an Administering Entity for the purpose of determining eligibility for Insurance Affordability Programs (APTC, CSR, Medicaid, CHIP or a BHP). Return Information will also be matched for determining eligibility for certain certificates of Exemption.

DESCRIPTION OF RECORDS TO BE USED IN THE MATCHING PROGRAM:

The matching program will be conducted with data maintained by CMS in the Health Insurance Exchanges System (HIX), CMS System No. 09-70-0560, as amended, published at 78 Federal Register (FR) 8538 (Feb. 6, 2013) and 78 FR 32256 (May 29, 2013).

The matching program will also be conducted with specified Return Information maintained by IRS in the Customer Account Data Engine (CADE) Individual Master File, Treasury/IRS 24.030, published at 77 FR 47948 (August 10, 2012).

INCLUSIVE DATES OF THE MATCH:

The CMP will become effective no sooner than 40 days after the report of the matching program is sent to OMB and Congress, or 30 days after publication in the Federal Register, whichever is later. The matching program will continue for 18 months from the effective date and may be extended for an additional 12 months thereafter, if certain conditions are met.

[FR Doc. 2013-19722 Filed 8-13-13; 8:45 am]

BILLING CODE 4120-03-P